DEPARTMENT OF HOUSING AND URBAN DEVELOPMENT

[Docket No. 5415-FA-20]

Announcement of Funding Awards Resident Opportunity and Self-Sufficiency (ROSS)-Service Coordinators, Program Fiscal Year (FY) 2010

AGENCY: Office of Public and Indian Housing, HUD.

ACTION: Announcement of funding awards.

SUMMARY: In accordance with Section 102 (a)(4)(C) of the Department of Housing and Urban Development Reform Act of 1989, this announcement notifies the public of funding decisions made by the Department in a competition for funding under the FY2010 Notice of Funding Availability (NOFA) for the Resident Opportunity and Self-Sufficiency (ROSS)-Service Coordinators Program. This announcement contains the consolidated names and addresses of the award recipients for this year under the ROSS-Service Coordinators Program.

FOR FURTHER INFORMATION CONTACT: Joseph Taylor, Grants Management Center, Office of Public and Indian Housing, Department of Housing and Urban Development, 451 7th Street, SW., Room 4130, Washington, DC 20410, telephone number 202-475-8852. Hearing or speech-impaired individuals may access this number via TTY by calling the toll-free Federal Relay Service at (800) 877-8339.

SUPPLEMENTARY INFORMATION: The ROSS-SC program provides grants to Public Housing Agencies (PHAs), tribes/tribally designated housing entities (TDHEs), Resident Associations (RAs), and nonprofit organizations (including grassroots, faith-based and other community-based organizations) for the provision of a Service Coordinator to coordinate supportive services and other activities designed to help Public and Indian housing residents attain economic and housing self-sufficiency as defined in 24 CFR part 964. More specifically, the ROSS-SC program provides service coordinators to PHAs to link participants to the supportive services they need to achieve self-sufficiency or remain independent.

The FY2010 awards announced in this notice identify applicants that were selected for funding in a competition posted on HUD's website on April 21, 2010. Applications were reviewed and selected through a lottery for funding based on the meeting threshold criteria in the ROSS-SC NOFA, which made approximately $35 million available for distribution.

In accordance with Section 102 (a)(4)(C) of the Department of Housing and Urban Development Reform Act of 1989 (103 Stat.1987, 42 U.S.C. 3545), the Department is publishing the names, addresses, and amounts of the 114 awards made under the competition in Appendix A to this notice.

Dated: August 16, 2011.
Sandra B. Henriquez,
Assistant Secretary for Public and Indian Housing.

Appendix A—List of Resident Opportunity and Self-Sufficiency (ROSS)—Service Coordinators Program NOFA Grantees for Fiscal Year 2010
Recipient | Address | City | State | Zip code | Amount
Aleut Community of St. Paul Island—Tribal Government | P.O. Box 86 | St. Paul Island | AK | 99660 | $240,000
Cook Inlet Tribal Council, Inc. | 3600 San Jeronimo Drive | Anchorage | AK | 99508 | 232,047
Tlingit Haida Regional Housing Authority | 5446 Jenkins Drive | Juneau | AK | 99801 | 240,000
Opelika Housing Authority | 1706 Toomer Street | Opelika | AL | 36803 | 240,000
Housing Authority of the City of Hot Springs | 1004 Illinois Street | Hot Springs | AR | 71901 | 116,001
City of Phoenix Housing Department | 200 West Washington, 4th Floor | Phoenix | AZ | 85003 | 480,000
City of Tucson | P.O. Box 27210, 310 North Commerce Park Loop | Tucson | AZ | 85726 | 240,000
Housing Authority of Maricopa County | 2024 North 7th Street | Phoenix | AZ | 85006 | 240,000
Housing Authority of the City of Yuma | 420 South Madison Avenue | Yuma | AZ | 85364 | 240,000
Housing Authority of the City of Los Angeles | 2600 Wilshire Boulevard | Los Angeles | CA | 90057 | 720,000
Housing Authority of the City of Santa Barbara | 808 Laguna Street | Santa Barbara | CA | 93101 | 240,000
Housing Authority of the County of San Joaquin | 448 South Center Street | Stockton | CA | 95203 | 412,470
City of Boulder Housing Authority dba Boulder Housing Partners | 4800 Broadway | Boulder | CO | 80304 | 240,000
Hirschfeld Towers Local Resident Council | 333 West Ellsworth Avenue | Denver | CO | 80223 | 202,317
Housing Authority of the City of Meriden | 22 Church Street | Meriden | CT | 6451 | 240,000
James Creek Resident Council | 100 North Street S.W | Washington | DC | 20024 | 240,000
The Wilmington Housing Authority | 400 North Walnut Street | Wilmington | DE | 19801 | 480,000
Jacksonville Housing Authority | 1300 Broad Street | Jacksonville | FL | 32202 | 543,819
Manatee County Housing Authority | 5631 11th Street East | Bradenton | FL | 34203 | 223,860
Miami-Dade Public Housing Agency | 701 N.W. 1st Court | Miami | FL | 33136 | 720,000
Pahokee Housing Authority, Inc | 465 Friend Terrace | Pahokee | FL | 33476 | 189,850
Pinellas County Housing Authority | 11479 Ulmerton Road | Largo | FL | 0 | 240,000
Punta Gorda Housing Authority | 340 Gulf Breeze Avenue | Punta Gorda | FL | 33950 | 199,010
Sarasota Housing Authority | 40 South Pineapple Avenue | Sarasota | FL | 34236 | 177,862
Conyers Housing Authority | 1214 Summer Circle | Conyers | GA | 30012 | 221,682
Griffin Housing Authority | 518 Nine Oaks Drive | Griffin | GA | 30224 | 240,000
Housing Authority of Newnan | 48 Ball Street | Newnan | GA | 30263 | 240,000
Housing Authority of the City of Carrollton | P.O. Box 627, 1 Roop Street | Carrollton | GA | 30117 | 240,000
Valdosta Housing Authority | 610 East Ann OFC | Valdosta | GA | 31603 | 240,000
Guam Housing and Urban Renewal Authority | 117 Bien Venida Avenue | Sinajana | GU | 96910 | 156,456
Coeur d'Alene Tribal Housing Authority | P.O. Box 267, 1005 8th Street | Plummer | ID | 83851 | 240,000
Housing Authority of Greene County | P.O. Box 336, 325 North Carr Street | White Hall | IL | 62092 | 130,573
Housing Authority of Henry County | 125 North Chestnut Street | Kewanee | IL | 61443 | 176,493
Knox County Housing Authority | 225 West Tompkins | Galesburg | IL | 61401 | 240,000
Peoria Housing Authority | 100 South Richard Pryor Place | Peoria | IL | 61605 | 240,000
Rock Island Housing Authority | 227 21st Street | Rock Island | IL | 61201 | 225,000
Rockford Housing Authority | 223 South Winnebago Street | Rockford | IL | 61102 | 480,000
Fort Wayne Housing Authority | P.O. Box 13489, 7315 Hanna Street | Fort Wayne | IN | 46869 | 158,585
Housing Authority of the City of Evansville | 500 Court Street | Evansville | IN | 47708 | 183,792
Campbells­ville Housing & Redevelopment Authority | 400 Ingram Avenue | Campbellsville | KY | 42718 | 240,000
Housing Authority of Ashland | 3131 Winchester Avenue | Ashland | KY | 41101 | 240,000
Lebanon Housing Authority | 101 Hamilton Heights | Lebanon | KY | 40033 | 240,000
St. James Parish Housing Authority | 2627 North King Avenue | Lutcher | LA | 70071 | 240,000
Urban Strategies, Inc | 720 Olive Street, Suite 2600 | St. Louis | LA | 63101 | 480,000
Chelsea Housing Authority | 54 Locke Street | Chelsea | MA | 21150 | 240,000
Gloucester Housing Authority | P.O. Box 1599, 259 Washington Street | Gloucester | MA | 1931 | 240,000
Malden Housing Authority | 630 Salem Street | Malden | MA | 2148 | 240,000
Somerville Housing Authority | 30 Memorial Road | Somerville | MA | 2145 | 240,000
Housing Authority of the City of Annapolis | 1217 Madison Street | Annapolis | MD | 21403 | 240,000
Monument East Tenant Council | 633 North Aisquith Street | Baltimore | MD | 21202 | 240,000
The Brentwood Tenant Council | 401 E. 25th Street | Baltimore | MD | 21202 | 240,000
Bath Housing Authority | 80 Congress Avenue | Bath | ME | 4530 | 199,570
Housing Authority of the City of Brewer | 15 Colonial Circle, Suite1 | Brewer | ME | 4412 | 155,000
South Portland Housing Authority | 51 Landry Circle | South Portland | ME | 4106 | 209,091
Community Action Network | P.O. Box 130076 | Ann Arbor | MI | 48113 | 238,657
Port Huron Housing Commission | 905 Seventh Street | Port Huron | MI | 48060 | 240,000
SOS Community Services, Inc | 101 South Huron Street | Ypsilanti | MI | 48197 | 193,480
Housing Authority of the City of Jackson, Mississippi | 2747 Livingston Road | Jackson | MS | 39213 | 240,000
Fort Peck Housing Authority, Inc | P.O. Box 667, 503 6th Avenue East | Poplar | MT | 59255 | 201,000
Northern Cheyenne Tribal Housing Authority | P.O. Box 327, Highway 39 North | Lame Deer | MT | 59043 | 168,000
Salish & Kootenai Housing Authority | P.O. Box 38 | Pablo | MT | 59855 | 210,000
Housing Authority of the County of Wake | P.O. Box 339, 100 Shannon Drive | Zebulon | NC | 27597 | 240,000
Housing Authority of the City of Lincoln | Lincoln Housing Authority, 5700 R Street | Lincoln | NE | 68505 | 222,045
Housing Authority of the City of Omaha | 540 South 27th Street | Omaha | NE | 68105 | 379,017
Ponca Tribe of Nebraska | 1501 Michigan Avenue | Norfolk | NE | 68701 | 198,092
Dover Housing Authority | 62 Whittier Street | Dover | NH | 3820 | 240,000
Atlantic City Housing Authority | 227 North Vermont Avenue, 17th Floor | Atlantic City | NJ | 8401 | 480,000
Cerebral Palsy Association of Middlesex County, Inc | 10 Oak Drive | Edison | NJ | 8837 | 240,000
Cerebral Palsy Association of Middlesex County, Inc | 10 Oak Drive | Edison | NJ | 8837 | 240,000
Housing Authority of the Borough of Glassboro | 737 Lincoln Boulevard | Borough of Glassboro | NJ | 8028 | 240,000
Housing Authority of the Borough of Madison | 24 Central Avenue | Madison | NJ | 7940 | 240,000
Housing Authority of the City of Long Branch | 2 Hope Lane | Long Branch | NJ | 7740 | 240,000
Housing Authority of the City of Paterson | 60 Van Houten Street | Paterson | NJ | 7509 | 425,491
Housing Authority of the City of Vineland | 191 West Chestnut Avenue | Vineland | NJ | 8360 | 240,000
Housing Authority of the City of Truth or Consequences | 108 Cedar | Truth or Consequences | NM | 87901 | 240,000
Binghamton Housing Authority | 35 Exchange Street | Binghamton | NY | 13902 | 210,000
Chautauqua Opportunities, Inc | 17 West Courtney Street | Dunkirk | NY | 14048 | 194,000
Citywide Council of Syracuse Low Income Housing Residents | 516 Burt Street | Syracuse | NY | 13202 | 480,000
Cohoes Housing Authority | 100 Manor Sites | Cohoes | NY | 12047 | 121,592
Ithaca Housing Authority | 800 South Plain Street | Ithaca | NY | 14850 | 184,325
Town of Islip Housing Authority | 963 Montauk Highway | Oakdale | NY | 11769 | 104,952
Cuyahoga Metropolitan Housing Authority | 1441 West 25th Street | Cleveland | OH | 44113 | 720,000
Lorain Metropolitan Housing Authority | 1600 Kansas Avenue | Lorain | OH | 44052 | 232,878
Portage Metropolitan Housing Authority | 2832 State Route 59 | Ravenna | OH | 44266 | 222,072
Trumbull Metropolitan Housing Authority | 4076 Youngstown Road S.E., Suite 101 | Warren | OH | 44484 | 195,155
Housing & Community Services Agency of Lane County | 177 Day Island Road | Eugene | OR | 97401 | 240,000
Housing Authority of the County of Beaver | 300 State Avenue | Beaver | PA | 15009 | 315,946
Tioga County Housing Authority | 4 Riverside Plaza | Blossburg | PA | 16912 | 240,000
United Neighborhood Centers | 425 Alder Street | Scranton | PA | 18505 | 185,231
North Charleston Housing Authority | 2170 Ashley Phosphate Road, #700 | North Charleston | SC | 29406 | 240,000
Oglala Sioux Tribe Partnership for Housing, Inc | P.O. Box 3001 | Pine Ridge | SD | 57770 | 240,000
Chattanooga Housing Authority | 801 North Holtzclaw Avenue | Chattanooga | TN | 37401 | 480,000
Memphis Housing Authority | 700 Adams Avenue | Memphis | TN | 38105 | 720,000
Housing Authority of the City of Beaumont | 1890 Laurel | Beaumont | TX | 77701 | 171,000
Housing Authority of the City of Belton, Texas | P.O. Box 708, 715 Saunders | Temple | TX | 76503 | 158,135
Housing Authority of the City of Bryan | 1306 Beck Street | Bryan | TX | 77803 | 240,000
Housing Authority of the City of Wichita Falls, Texas | 501 Webster | Wichita Falls | TX | 76307 | 181,500
Paiute Housing Authority | 665 North, 100 East | Cedar City | UT | 84720 | 179,843
Charlottesville Public Housing Association of Residents (PHA) | 1000 Preston Avenue, Suite C | Charlottesville | VA | 22903 | 153,399
Cumberland Plateau Regional Housing Authority | Post Office Box 1328, 35 Fox Meadow Drive | Lebanon | VA | 24266 | 149,400
Norfolk Redevelopment and Housing Authority | 201Granby Street | Norfolk | VA | 23510 | 720,000
Portsmouth Redevelopment & Housing Authority | 801 Water Street, 2nd Floor | Portsmouth | VA | 23704 | 240,000
Virgin Islands Housing Authority | 402 Estate Anna's Retreat | St. Thomas | VI | 801 | 720,000
Bennington Housing Authority | 22 Willowbrook Drive | Bennington | VT | 5201 | 235,197
Full Life Care | 800 Jefferson Street, #600 | Seattle | WA | 98104 | 720,000
Housing Authority of the City of Everett | P.O. Box 1547 | Everett | WA | 98206 | 228,890
Housing Authority of the City of Seattle | 120 6th Avenue North | Seattle | WA | 98109 | 708,759
Housing Authority, City of Renton | 2900 North East 10th Street | Renton | WA | 98056 | 186,331
Skyline Crest Resident Leadership Group | 500 Omaha Way | Vancouver | WA | 98661 | 228,226
Appleton Housing Authority | 925 West Northland Avenue | Appleton | WI | 51914 | 220,500
Highland Park Resident Corporation | c/o Kenneth Barbeau, Contract Administrator, HACM, 650 West Reservoir Avenue | Milwaukee | WI | 53212 | 146,070
Holton Terrace Resident Organization | c/o Kenneth Barbeau, Contract Administrator, HACM, 650 West Reservoir Avenue | Milwaukee | WI | 53212 | 237,619
Lac Courte Oreilles Band of Lake Superior Chippewa | 13394 West Trepania Road | Hayward | WI | 54843 | 198,576
Mitchell Court Resident Organization | 650 West Reservoir Ave, c/o Kenneth Barbeau, Contract Administrator, HACM | Milwaukee | WI | 53212 | 237,619

[FR Doc. 2011-22874 Filed 9-6-11; 8:45 am]

BILLING CODE 4210-67-P